NATIONAL SCIENCE FOUNDATION

Special Emphasis Panel for the Experimental Program to stimulate Competitive Research (EPSCoR): Notice of Meeting

In accordance with the Federal Advisory Committee Act (Pub. L. 92-463, as amended), the National Science Foundation announces the following meeting:

Name: Special Emphasis Panel for the Experimental Program to Stimulate Competitive Research (EPSCoR) #1198.

Dates: March 31, 2000.

Times: 8:00 a.m. until 5:00 p.m.

Place: Hilton Hotel, 950 N. Stratford, Arlington, VA 22230 (703) 528-6000.

Type of Meeting: Closed.

Contact person: Richard J. Anderson, Senior Science Advisory, Office of Experimental Program to Stimulate Competitive Research (EPSCoR), National Science Foundation, Suite 875, 4201 Wilson Boulevard, Arlington, VA 22230. (703) 306-1683.

Purpose of Meeting: To provide advice and recommendations concerning EPSCoR Grants proposals submitted to the NSF EPSCoR for financial support.

Agenda: To review and evaluate research proposals as part of the selection process for awards.

Reason for Closing: The proposals being reviewed include information of a proprietary or confidential nature, including technical information, financial data such as salaries, and personal information concerning individuals associated with the proposals. These matters are exempt under 5 U.S.C. 552b(c) (4) and (6) of the Government in the Sunshine Act.

Dated: February 23, 2000.
Karen J. York,
Committee Management Officer.

[FR Doc. 00-4714 Filed 2-28-00; 8:45 am]

BILLING CODE 7555-01-M